DEPARTMENT OF VETERANS AFFAIRS

Advisory Committee on Homeless Veterans; Notice of Meeting

The Department of Veterans Affairs (VA) gives notice under the Federal Advisory Committee Act that a meeting of the Advisory Committee on Homeless Veterans will be held April 3-4, 2019. The meeting sessions will take place at the Department of Veterans Affairs Central Office at 810 Vermont Avenue NW, Sonny Montgomery Conference Room 230, Washington, DC 20420.

The purpose of the Committee is to provide the Secretary of Veterans Affairs with an on-going assessment of the effectiveness of the policies, organizational structures, and services of VA in assisting Veterans at-risk and experiencing homelessness. The Committee shall assemble and review information related to the needs of homeless Veterans and provide advice on the most appropriate means of providing assistance to that subset of the Veteran population. The Committee will make recommendations to the Secretary regarding such activities.

On Wednesday, April 3, 2019, the Committee will convene an open session rom 8:00 a.m. to 5:00 p.m. (Eastern Standard Time). On Thursday, April 4, 2019, the Committee will convene an open session from 8:00 a.m. to 3:00 p.m. (Eastern Standard Time). The agenda for both meetings will include briefings from officials at VA and other federal agencies regarding services for homeless Veterans. The Committee will also discuss topics for its annual report and recommendations to the Secretary of Veterans Affairs.

No time will be allocated at this meeting for receiving oral presentations from the public. Interested parties should provide written comments on issues affecting homeless Veterans for review by the Committee to Mr. Anthony Love, Designated Federal Officer, Veterans Health Administration Homeless Programs Office (10NC1), Department of Veterans Affairs, 811 Vermont Avenue NW (10NC1), Washington, DC 20420, or via email at Anthony.Love@va.gov and Leisa.Davis@va.gov.

Members of the public who wish to attend should contact Anthony.Love@va.gov (202) 461-1902 and Leisa.Davis@va.gov (202) 632-8588 of the Veterans Health Administration, Homeless Programs Office no later than March 18, 2019, to provide their name, professional affiliation, email address, and phone number. There will also be a call-in number at 1-800-767-1750; Access Code: 50653#. Attendees who require reasonable accommodations should also state so in their requests. Please arrive to VA Central Office at least 20 (twenty) minutes before the meeting start time to clear the building security checkpoint.

Dated: February 27, 2019.
Jelessa M. Burney,
Federal Advisory Committee Management Officer.

[FR Doc. 2019-03799 Filed 3-1-19; 8:45 am]

BILLING CODE P